DEPARTMENT OF TRANSPORTATION

Federal Railroad Administration

[Docket Number FRA-2015-0019]

Petition for Waiver of Compliance

In accordance with part 211 of Title 49 Code of Federal Regulations (CFR), this document provides the public notice that by a document dated February 11, 2016, Norfolk Southern Railway (NS) requested that the Federal Railroad Administration (FRA) Railroad Safety Board (Board) approve an amendment to its existing waiver in order to expand the territory inspected pursuant to its nonstop continuous rail testing process. The projected starting date for implementing the expansion would be March 1, 2016, and the testing process would continue up to July 1, 2018.

The original waiver grants relief from 49 CFR 213.113(a) and allows NS to perform a continuous rail test process on certain designated tracks in lieu of the stop/start rail testing required by the regulation. NS is currently using nonstop continuous testing on the main tracks of the Dearborn Division, Chicago Line (Cleveland, OH, to Chicago, IL, Milepost (MP) CD 181.2-523.3)). Once this district has been completed, NS would expand the continuous testing process to the following locations: (1) Dearborn Division Cleveland Line (Ravenna to Drawbridge, MP RD 85.9-123.2), Chicago District (Chicago, IL, to Hobart, IN, MP B 518.7-486.5), Lake Erie District (Euclid to Bay Village, B 172.0-197.3); (2) Lake Division Chicago, Fostoria, and Cleveland Districts (Hobart, IN, to Bay Village, OH, MPB 486.5-197.3); (3) Pittsburgh Division, Fort Wayne Line (Pittsburgh, PA, to Crestline, OH, MP PC 0.0-188.7), Pittsburgh Line (Pittsburgh, PA, to CP Cannon MP, PT 353.5-119.1), Conemaugh Line (CP Conpit to CP Penn MP LC 0.0-77.9), Lake Erie District (Euclid to Ashtabula, B 172.0-129.2), Cleveland Line (Ravenna to Alliance, MP RD 85.9-67.2); and (4) Harrisburg Division, Pittsburgh Line (Harris to CP Cannon, MP PT 104.9-119.1), Harrisburg Line (Falls to Harrisburg, PA, MP HP 5.2-112.9), Port Road Branch (Port to Banks, MP EP 33.7-76.1 and Perryville to Port, MP PD 0.3-39.7).

The expanded inspection territories include: Central Division, Cincinnati, New Orleans and Texas Pacific Railway (Cincinnati, OH, to Chattanooga, TN, MP 2.46-338.2 Tracks 1 and 2); Georgia Division Atlanta, North District (Chattanooga, TN, to Atlanta, GA, MP 226.68-235.07 A and 15.12-158.8 H Tracks 1 and 2); Dearborn Division, Detroit District (Detroit, MI, to Butler, IN, MP D 1.4-116.0); and Lake Division, New Castle District (Mill, OH, to Ft. Wayne, IN, MP CF 16.5-185.8). NS plans to test the expanded territories approximately every 30 to 45 days.

The nonstop continuous rail test vehicle is a self-propelled ultrasonic/induction rail flaw detection vehicle operating at test speeds up to 30 mph. Upon completion of each daily run, data is analyzed offline by technical experts experienced with the process on other Class I railroads. The analysis categorizes and prioritizes suspect locations for post-test field verification and hand tests. Field verification is conducted by qualified and certified rail test professionals with recordable field validation equipment based on GPS location and known track features identified within the flaw detection electronic record. Remedial actions are applied based on the findings per 49 CFR 213.113 for confirmed rail defect locations.

NS' Engineering Department will continue to provide FRA's Rail Integrity office with rail test reports for review as required. NS believes expansion of the nonstop continuous rail testing to additional territory will continue to provide the capability to test track more quickly and frequently, and minimize the risk of rail service failures.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2015-0019) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 9, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-09445 Filed 4-22-16; 8:45 am]

BILLING CODE 4910-06-P